DEPARTMENT OF LABOR

Employment and Training Administration

Investigations Regarding Eligibility To Apply for Worker Adjustment Assistance

Petitions have been filed with the Secretary of Labor under Section 221(a) of the Trade Act of 1974 (“the Act”) and are identified in the Appendix to this notice. Upon receipt of these petitions, the Administrator of the Office of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing provided such request is filed in writing with the Administrator, Office of Trade Adjustment Assistance, at the address shown below, no later than October 13, 2020.

Interested persons are invited to submit written comments regarding the subject matter of the investigations to the Administrator, Office of Trade Adjustment Assistance, at the address shown below, not later than October 13, 2020.

The petitions filed in this case are available for inspection at the Office of the Administrator, Office of Trade Adjustment Assistance, Employment and Training Administration, U.S. Department of Labor, Room N-5428, 200 Constitution Avenue NW, Washington, DC 20210.

Signed at Washington, DC this 16th day of September 2020.
Hope D. Kinglock,
Certifying Officer, Office of Trade Adjustment Assistance.

Appendix

52 TAA Petitions Instituted Between 8/1/20 and 8/31/20
TA-W | Subject firm (petitioners) | Location | Date of institution | Date of petition
96116 | Motorola Mobility LLC (Workers) | Chicago, IL | 08/03/20 | 07/31/20
96117 | Secure Contact Solutions, LLC (Company) | Alpharetta, GA | 08/03/20 | 07/31/20
96118 | Johnson Controls Inc. (Workers) | Marinette, WI | 08/04/20 | 08/02/20
96119 | CSS Corporation (State/One-Stop) | Draper, UT | 08/05/20 | 08/04/20
96120 | Glen Raven Custom Fabrics (State/One-Stop) | Sunbury, PA | 08/05/20 | 08/04/20
96121 | Hewlett-Packard Enterprise (State/One-Stop) | Fort Collins, CO | 08/05/20 | 08/04/20
96122 | Ran-Tech Engineering & Aerospace, Inc. (State/One-Stop) | Clackamas, OR | 08/05/20 | 08/05/20
96123 | SECO Warwick Corporation (Company) | Meadville, PA | 08/05/20 | 08/04/20
96124 | PECO, Inc. an Astronics Company (State/One-Stop) | Clackamas, OR | 08/06/20 | 08/05/20
96125 | Indiana's Goodwill Ambassador Inc. (Company) | Indianapolis, IN | 08/06/20 | 08/06/20
96126 | NMG LLC (State/One-Stop) | Norfolk, NE | 08/06/20 | 08/05/20
96127 | Levi Strauss & Company (State/One-Stop) | Eugene, OR | 08/07/20 | 08/06/20
96128 | Southwick LLC (Union) | Haverhill, MA | 08/07/20 | 08/06/20
96129 | Molnlycke (State/One-Stop) | Indianapolis, IN | 08/10/20 | 08/10/20
96130 | Lands' End, Inc. (Company) | Dodgeville, WI | 08/11/20 | 08/10/20
96131 | Mid Continent Controls, Inc. (State/One-Stop) | Derby, KS | 08/11/20 | 08/10/20
96132 | Southwick/Brooks Brothers/Golden Fleece (State/One-Stop) | Haverhill, MA | 08/11/20 | 08/03/20
96133 | Toray Composite Materials America, Inc. (State/One-Stop) | Tacoma, WA | 08/11/20 | 08/08/20
96134 | Trulife Engineered Solutions (State/One-Stop) | Bellingham, WA | 08/11/20 | 08/08/20
96135 | Allegheny Technologies Inc. Specialty Alloys & Components (Union) | Albany, OR | 08/13/20 | 08/12/20
96136 | Cooper Standard (Company) | Surgoinsville, TN | 08/13/20 | 08/12/20
96137 | Jones & Vining, Inc. (State/One-Stop) | Walnut Ridge, AR | 08/13/20 | 08/12/20
96138 | Mosey Manufacturing (State/One-Stop) | Richmond, IN | 08/13/20 | 08/12/20
96139 | Waupaca Foundry, Inc. (State/One-Stop) | Lawrenceville, PA | 08/13/20 | 08/12/20
96140 | Maxion Wheels Akron LLC (State/One-Stop) | Akron, OH | 08/14/20 | 08/13/20
96141 | Boeing Distribution Services Inc. (Company) | Miami, FL | 08/17/20 | 08/14/20
96142 | Libbey Glass (Company) | Shreveport, LA | 08/18/20 | 08/17/20
96143 | Nokia (State/One-Stop) | Naperville, IL | 08/18/20 | 08/17/20
96144 | Signify North America Corporation (State/One-Stop) | Salina, KS | 08/18/20 | 08/17/20
96145 | TECT Aerospace (State/One-Stop) | Wichita, KS | 08/18/20 | 08/17/20
96146 | James Counts (Company) | Surprise, AZ | 08/19/20 | 08/18/20
96147 | Pittsburgh Glass Works, LLC (Company) | Pittsburgh, PA | 08/19/20 | 08/19/20
96148 | SRG Global (State/One-Stop) | Newbern & Ripley, TN | 08/19/20 | 08/18/20
96149 | Titanium Metals Corporation (TIMET) (Union) | Toronto, OH | 08/19/20 | 08/17/20
96150 | United States Steel Corporation (State/One-Stop) | Boyers, PA | 08/20/20 | 08/17/20
96151 | United States Gypsum (State/One-Stop) | Norfolk, VA | 08/20/20 | 08/18/20
96152 | Comcast Technology Solutions, LLC (State/One-Stop) | Seattle, WA | 08/21/20 | 08/18/20
96153 | Therm-O-Disc (State/One-Stop) | Mansfield, OH | 08/21/20 | 08/20/20
96154 | FLSmidth (State/One-Stop) | Johnson City, TN | 08/24/20 | 08/21/20
96155 | Heroux Devtek, Inc. (State/One-Stop) | Wichita, KS | 08/24/20 | 08/24/20
96156 | Rassini Chassis Systems LLC (Company) | Montpelier, OH | 08/24/20 | 08/21/20
96157 | TMK Ipsco (State/One-Stop) | Brookfield Township, OH | 08/25/20 | 08/24/20
96158 | Matthew-Warren Spring Division (State/One-Stop) | Logansport, IN | 08/26/20 | 08/25/20
96159 | Qiagen (State/One-Stop) | Frederick, MD | 08/26/20 | 08/25/20
96160 | Riviera Travel LLC (State/One-Stop) | Fairfield, CT | 08/26/20 | 08/26/20
96161 | TE Connectivity (Company) | Berwyn, PA | 08/26/20 | 08/26/20
96162 | ASARCO (Union) | Amarillo, TX | 08/27/20 | 08/24/20
96163 | Celeros Flow Technology (Workers) | McKean, PA | 08/27/20 | 08/26/20
96164 | CTS Electronics Components Inc. (State/One-Stop) | Albuquerque, NM | 08/27/20 | 08/26/20
96165 | US Steel Great Lakes Works (State/One-Stop) | Ecorse, MI | 08/27/20 | 08/26/20
96166 | US Tool Group (State/One-Stop) | Farmington, MO | 08/31/20 | 08/28/20

[FR Doc. 2020-21712 Filed 9-30-20; 8:45 am]

BILLING CODE P